SMALL BUSINESS ADMINISTRATION

[Declaration of Disaster #3271]

State of Minnesota; Amendment #2

In accordance with a notice from the Federal Emergency Management Agency, dated July 12, 2000, the above-numbered Declaration is hereby amended to establish the incident period for this disaster as beginning on May 17, 2000 and continuing through July 12, 2000.

All other information remains the same, i.e., the deadline for filing applications for physical damage is August 29, 2000 and for economic injury the deadline is March 30, 2001.

(Catalog of Federal Domestic Assistance Program Nos. 59002 and 59008)
Dated: July 14, 2000.
Allan I. Hoberman,
Acting Associate Administrator for Disaster Assistance.

[FR Doc. 00-18838 Filed 7-25-00; 8:45 am]

BILLING CODE 8025-01-P